DEPARTMENT OF COMMERCE

International Trade Administration

[A-762-001, A-602-813, A-553-001, A-403-806]

Silicon Metal From Angola, Australia, the Lao People's Democratic Republic, and Norway: Initiation of Less-Than-Fair-Value Investigations

AGENCY: Enforcement and Compliance, International Trade Administration, Department of Commerce.

DATES: Applicable May 14, 2025.

FOR FURTHER INFORMATION CONTACT: Christopher Doyle at (202) 482-5882 (Angola), Jacob Waddell at (202) 482-1369 (Australia), Caroline Caroll at (202) 482-4948 (the Lao People's Democratic Republic (Laos)), and Brittany Bauer at (202) 482-3860 (Norway), AD/CVD Operations, Enforcement and Compliance, International Trade Administration, U.S. Department of Commerce, 1401 Constitution Avenue NW, Washington, DC 20230.

SUPPLEMENTARY INFORMATION:

The Petitions

On April 24, 2025, the U.S. Department of Commerce (Commerce) received antidumping duty (AD) petitions concerning imports of silicon metal from Angola, Australia, Laos, and Norway filed in proper form on behalf of Ferroglobe USA, Inc. and Mississippi Silicon LLC (the petitioners), domestic producers of silicon metal.¹ The AD Petitions were accompanied by countervailing duty (CVD) petitions concerning imports of silicon metal from Australia, Laos, Norway, and Thailand.²

¹ See Petitioners' Letter, “Petitions for the Imposition of Antidumping and Countervailing Duties,” dated April 24, 2025 (Petitions).

² Id.

Between April 29 and May 6, 2025, Commerce requested supplemental information pertaining to certain aspects of the Petitions in supplemental questionnaires.³ Between May 1 and 9, 2025, the petitioners filed timely responses to these requests for additional information.⁴

³ See Commerce's Letters, “First Country-Specific Supplemental Questionnaires: Angola Supplemental, Australia Supplemental, Laos Supplemental, and Norway Supplemental,” dated April 29, 2025; “Supplemental Questions,” dated April 30, 2025 (First General Issues Questionnaire); “Second Supplemental Questions,” dated May 5, 2025 (Second General Issues Questionnaire); and “Second Country-Specific Supplemental Questionnaires: Second Angola Supplemental, Second Australia Supplemental, Second Laos Supplemental, and Second Norway Supplemental,” dated May 6, 2025.

⁴ See Petitioners' Letters, “Petitioners' Response to Supplemental Questions—General Issues,” dated May 1, 2025 (First General Issues Supplement); “First Country-Specific AD Supplemental Responses: Angola AD Supplement, Australia AD Supplement, Laos AD Supplement, and Norway AD Supplement,” dated May 5, 2025; “Petitioners' Response to Second General Issues Questionnaire,” dated May 6, 2025 (Second General Issues Supplement); and “Second Country-Specific AD Supplemental Responses: Second Angola AD Supplement, Second Australia AD Supplement, Second Laos AD Supplement, and Second Norway AD Supplement,” dated May 8 and 9, 2025.

In accordance with section 732(b) of the Tariff Act of 1930, as amended (the Act), the petitioners allege that imports of silicon metal from Angola, Australia, Laos, and Norway are being, or are likely to be, sold in the United States at less than fair value (LTFV) within the meaning of section 731 of the Act, and that imports of such products are materially injuring, or threatening material injury to, the silicon metal industry in the United States. Consistent with section 732(b)(1) of the Act, the Petitions were accompanied by information reasonably available to the petitioners supporting its allegations.

Commerce finds that the petitioners filed the Petitions on behalf of the domestic industry, because the petitioners are interested parties, as defined in section 771(9)(C) of the Act. Commerce also finds that the petitioners demonstrated sufficient industry support for the initiation of the requested LTFV investigations.⁵

⁵ See section on “Determination of Industry Support for the Petitions,” infra.

Periods of Investigations (POI)

Because the Petitions were filed on April 24, 2025, pursuant to 19 CFR 351.204(b)(1), the period of investigation (POI) for the Angola, Australia, Laos, and Norway LTFV investigations is April 1, 2024, through March 31, 2025. The petitioners argued that Commerce should determine in these investigations that Angola and Laos are non-market economies (NMEs) within the meaning of section 771(18)(A) of the Act and should calculate normal value (NV) for both countries in accordance with its NME methodology.⁶ Under the NME methodology for the Angola and Laos LTFV investigations, the appropriate POI is October 1, 2024, through March 31, 2025, pursuant to 19 CFR 351.204(b)(1).

⁶ See Petitions at Volume II at 1-2 and Exhibit II-1; see also Petitions at Volume V at 1-2 and Exhibit V-1.

Scope of the Investigations

The product covered by these investigations is silicon metal from Angola, Australia, Laos, and Norway. For a full description of the scope of these investigations, see the appendix to this notice.

Comments on the Scope of the Investigations

As discussed in the Preamble to Commerce's regulations, we are setting aside a period for interested parties to raise issues regarding product coverage (i.e., scope).⁷ Commerce will consider all scope comments received from interested parties and, if necessary, will consult with interested parties prior to the issuance of the preliminary determinations. If scope comments include factual information,⁸ all such factual information should be limited to public information. Commerce requests that interested parties provide at the beginning of their scope comments a public executive summary for each comment or issue raised in their submission. Commerce further requests that interested parties limit their public executive summary of each comment or issue to no more than 450 words, not including citations. Commerce intends to use the public executive summaries as the basis of the comment summaries included in the analysis of scope comments. To facilitate preparation of its questionnaires, Commerce requests that scope comments be submitted by 5:00 p.m. Eastern Time (ET) on June 3, 2025, which is 20 calendar days from the signature date of this notice. Any rebuttal comments, which may include factual information, and should also be limited to public information, must be filed by 5:00 p.m. ET on June 13, 2025, which is 10 calendar days from the initial comment deadline.

⁷ See Antidumping Duties; Countervailing Duties, Final Rule, 62 FR 27296, 27323 (May 19, 1997) (Preamble); see also 19 CFR 351.312.

⁸ See 19 CFR 351.102(b)(21) (defining “factual information”).

Commerce requests that any factual information that parties consider relevant to the scope of these investigations be submitted during that period. However, if a party subsequently finds that additional factual information pertaining to the scope of the investigations may be relevant, the party must contact Commerce and request permission to submit the additional information. All scope comments must be filed simultaneously on the records of the concurrent LTFV and CVD investigations.

Filing Requirements

All submissions to Commerce must be filed electronically via Enforcement and Compliance's Antidumping Duty and Countervailing Duty Centralized Electronic Service System (ACCESS), unless an exception applies.⁹ An electronically filed document must be received successfully in its entirety by the time and date it is due.

⁹ See Antidumping and Countervailing Duty Proceedings: Electronic Filing Procedures; Administrative Protective Order Procedures, 76 FR 39263 (July 6, 2011); see also Enforcement and Compliance: Change of Electronic Filing System Name, 79 FR 69046 (November 20, 2014) for details of Commerce's electronic filing requirements, effective August 5, 2011. Information on using ACCESS can be found at https://access.trade.gov/help.aspx and a handbook can be found at https://access.trade.gov/help/Handbook_on_Electronic_Filing_Procedures.pdf.

Comments on Product Characteristics

Commerce is providing interested parties an opportunity to comment on the appropriate physical characteristics of silicon metal to be reported in response to Commerce's AD questionnaires. This information will be used to identify the key physical characteristics of the subject merchandise in order to report the relevant factors of production (FOP) or cost of production (COP) accurately, as well as to develop appropriate product comparison criteria.

Interested parties may provide any information or comments that they feel are relevant to the development of an accurate list of physical characteristics. Specifically, they may provide comments as to which characteristics are appropriate to use as: (1) general product characteristics; and (2) product comparison criteria. We note that it is not always appropriate to use all product characteristics as product comparison criteria. We base product comparison criteria on meaningful commercial differences among products. In other words, although there may be some physical product characteristics utilized by manufacturers to describe silicon metal, it may be that only a select few product characteristics take into account commercially meaningful physical characteristics. In addition, interested parties may comment on the order in which the physical characteristics should be used in matching products. Generally, Commerce attempts to list the most important physical characteristics first and the least important characteristics last.

In order to consider the suggestions of interested parties in developing and issuing the AD questionnaires, all product characteristics comments must be filed by 5:00 p.m. ET on June 3, 2025, which is 20 calendar days from the signature date of this notice. Any rebuttal comments must be filed by 5:00 p.m. ET on June 13, 2025, which is 10 calendar days from the initial comment deadline. All comments and submissions to Commerce must be filed electronically using ACCESS, as explained above, on the record of the each of the LTFV investigations.

Determination of Industry Support for the Petitions

Section 732(b)(1) of the Act requires that a petition be filed on behalf of the domestic industry. Section 732(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, Commerce shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The U.S. International Trade Commission (ITC), which is responsible for determining whether “the domestic industry” has been injured, must also determine what constitutes a domestic like product in order to define the industry. While both Commerce and the ITC must apply the same statutory definition regarding the domestic like product,¹⁰ they do so for different purposes and pursuant to a separate and distinct authority. In addition, Commerce's determination is subject to limitations of time and information. Although this may result in different definitions of the like product, such differences do not render the decision of either agency contrary to law.¹¹

¹⁰ See section 771(10) of the Act.

¹¹ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioners do not offer a definition of the domestic like product distinct from the scope of the investigations.¹² Based on our analysis of the information submitted on the record, we have determined that silicon metal, as defined in the scope, constitutes a single domestic like product, and we have analyzed industry support in terms of that domestic like product.¹³

¹² See Petitions at Volume I (pages 16-19 and Exhibits I-1, and I-9 through I-12).

¹³ For a discussion of the domestic like product analysis as applied to these cases and information regarding industry support, see Checklists, “Antidumping Duty Investigation Initiation Checklists: Silicon Metal from Angola, Australia, the Lao People's Democratic Republic, and Norway,” dated concurrently with, and hereby adopted by, this notice (Country-Specific AD Initiation Checklists), at Attachment II, Analysis of Industry Support for the Antidumping and Countervailing Duty Petitions Covering Silicon Metal from Angola, Australia, the Lao People's Democratic Republic, Norway, and Thailand (Attachment II). These checklists are on file electronically via ACCESS.

In determining whether the petitioners have standing under section 732(c)(4)(A) of the Act, we considered the industry support data contained in the Petitions with reference to the domestic like product as defined in the “Scope of the Investigations,” in the appendix to this notice. To establish industry support, the petitioners provided their own production of the domestic like product in 2024.¹⁴ The petitioners identified themselves as the only two producers of silicon metal in the United States; therefore, the Petitions are supported by 100 percent of the U.S. industry.¹⁵ We relied on data provided by the petitioners for purposes of measuring industry support.¹⁶

¹⁴ For further discussion, see Attachment II of the Country-Specific AD Initiation Checklists.

¹⁵ Id.

¹⁶ Id.

Our review of the data provided in the Petitions, the First General Issues Supplement, Second General Issues Supplement, and other information readily available to Commerce indicates that the petitioners have established industry support for the Petitions.¹⁷ First, the Petitions established support from domestic producers (or workers) accounting for more than 50 percent of the total production of the domestic like product and, as such, Commerce is not required to take further action in order to evaluate industry support (e.g., polling).¹⁸ Second, the domestic producers (or workers) have met the statutory criteria for industry support under section 732(c)(4)(A)(i) of the Act because the domestic producers (or workers) who support the Petitions account for at least 25 percent of the total production of the domestic like product.¹⁹ Finally, the domestic producers (or workers) have met the statutory criteria for industry support under section 732(c)(4)(A)(ii) of the Act because the domestic producers (or workers) who support the Petitions account for more than 50 percent of the production of the domestic like product produced by that portion of the industry expressing support for, or opposition to, the Petitions.²⁰ Accordingly, Commerce determines that the Petitions were filed on behalf of the domestic industry within the meaning of section 732(b)(1) of the Act.²¹

¹⁷ Id.

¹⁸ Id.; see also section 732(c)(4)(D) of the Act.

¹⁹ See Attachment II of the Country-Specific AD Initiation Checklists.

²⁰ Id.

²¹ Id.

Allegations and Evidence of Material Injury and Causation

The petitioners allege that the U.S. industry producing the domestic like product is being materially injured, or is threatened with material injury, by reason of the imports of the subject merchandise sold at LTFV. In addition, the petitioners allege that subject imports from Australia, Laos, and Norway exceed the negligibility threshold provided for under section 771(24)(A) of the Act.²² With respect to Angola, while the allegedly dumped imports do not exceed the statutory requirements for negligibility,²³ the petitioners allege and provide supporting evidence that there is the potential that imports from Angola will imminently exceed the negligibility threshold and, therefore, are not negligible for purposes of a threat determination.²⁴ The petitioners' arguments regarding the potential for imports to imminently exceed the negligibility threshold are consistent with the statutory criteria for “negligibility in threat analysis” under section 771(24)(A)(iv) of the Act, which provides that imports shall not be treated as negligible if there is a potential that subject imports from a country will imminently exceed the statutory requirements for negligibility.

²² For further discussion, see Country-Specific AD Initiation Checklists at Attachment III, Analysis of Allegations and Evidence of Material Injury and Causation for the Antidumping and Countervailing Duty Petitions Covering Silicon Metal from Angola, Australia, the Lao People's Democratic Republic, Norway, and Thailand (Attachment III).

²³ Id.

²⁴ Id.; see also section 771(24)(A)(iv) of the Act.

The petitioners contend that the industry's injured condition is illustrated by the significant increase in the volume of subject imports; reduced market share; underselling and price depression and/or suppression; lost sales and revenues; and adverse impact on financial performance.²⁵ We assessed the allegations and supporting evidence regarding material injury, threat of material injury, causation, cumulation, as well as negligibility, and we have determined that these allegations are properly supported by adequate evidence, and meet the statutory requirements for initiation.²⁶

²⁵ See Attachment III of the Country-Specific AD Initiation Checklists.

²⁶ Id.

Allegations of Sales at LTFV

The following is a description of the allegations of sales at LTFV upon which Commerce based its decision to initiate LTFV investigations of imports of silicon metal from Angola, Australia, Laos, and Norway. The sources of data for the deductions and adjustments relating to U.S. price and normal value (NV) are discussed in greater detail in the Country-Specific AD Initiation Checklists.

U.S. Price

For all countries, the petitioners based export price (EP) on the POI average unit values (AUVs) derived from official import statistics for imports of silicon metal from each country.²⁷ For each country, the petitioners made certain adjustments to U.S. price to calculate a net ex-factory U.S price, where applicable.²⁸

²⁷ See Country-Specific AD Initiation Checklists.

²⁸ Id.

Normal Value ²⁹

²⁹ In accordance with section 773(b)(2) of the Act, for these investigations, Commerce will request information necessary to calculate the constructed value (CV) and COP to determine whether there are reasonable grounds to believe or suspect that sales of the foreign like product have been made at prices that represent less than the COP of the product.

For Australia and Norway, the petitioners stated that they were unable to obtain home market or third-country pricing information for silicon metal in Australia or Norway to use a basis for NV.³⁰ Therefore, for Australia and Norway, the petitioners calculated NV based on CV. For further discussion of CV, see the section “Normal Value Based on Constructed Value.”

³⁰ See Country-Specific AD Initiation Checklists.

For Angola and Laos, the petitioners provided NV calculations using both the NME and market economy (ME) methodologies.³¹ Under the ME methodology, for Angola and Laos, the petitioners stated that they were unable to obtain home market or third-country pricing information for silicon metal in Angola or Laos to use a basis for ME NV.³² Therefore, under the ME methodology for Angola and Laos, the petitioners calculated ME NV based on CV.³³ For further discussion of CV, see the section “Normal Value Based on Constructed Value.” Under the NME methodology, the petitioners calculated the NME NV based on factors of production (FOPs) valued in a surrogate market country economy country in accordance with section 773(c) of the Act.³⁴ The petitioners claim that India is an appropriate surrogate country for Angola and Laos because India is a market economy country that is at a level of economic development comparable to that of Angola and Laos and is a significant producer of comparable merchandise.³⁵ The petitioners provided publicly available information from India to value all FOPs, where applicable.³⁶ We relied on the petitioners' selection of India as a surrogate country for Angola and Laos to value FOPs for initiation purposes under the NME methodology.

³¹ Id.

³² Id.

³³ Id.

³⁴ Id.

³⁵ Id.

³⁶ Id.

Interested parties will have the opportunity to submit comments regarding surrogate country selection and, pursuant to 19 CFR 351.301(c)(3)(i), will be provided an opportunity to submit publicly available information to value FOPs within 30 days before the scheduled date of the preliminary determinations.

Factors of Production

Because information regarding the volume of inputs consumed by Angolan and Lao producers/exporters was not reasonably available, under the NME methodology, the petitioners used the production experience and product-specific consumption rates of a U.S. producer of silicon metal as a surrogate to value Angolan and Lao manufacturers' FOPs.³⁷ Additionally, for Angola and Laos, the petitioners calculated factory overhead, selling, general, and administrative expenses (SG&A), and profit based on the experience of an Indian producer of comparable merchandise.³⁸

³⁷ See Country-Specific AD Initiation Checklists.

³⁸ Id.

Normal Value Based on Constructed Value

As noted above for Australia and Norway, the petitioners stated that they were unable to obtain home market or third-country prices for silicon metal to use as a basis for NV. Therefore, for Australia and Norway, the petitioners calculated NV based on CV.³⁹ Additionally, under the ME methodology for Angola and Laos, the petitioners stated they were also unable to obtain home market or third-country prices for silicon metal to use as a basis for ME NV. Therefore, under the ME methodology for Angola and Laos, the petitioners calculated ME NV based on CV.⁴⁰

³⁹ Id.

⁴⁰ Id.

Pursuant to section 773(e) of the Act, the petitioners calculated CV as the sum of the cost of manufacturing, SG&A expenses, financial expenses, and profit.⁴¹ For Australia and Norway as well as for the ME methodology for Angola and Laos, in calculating the cost of manufacturing, the petitioners relied on the production experience and input consumption rates of a U.S. producer of silicon metal, valued using publicly available information applicable to Angola, Australia, Laos, and Norway.⁴² For calculating SG&A expenses, financial expenses, and profit ratios, the petitioners relied on the 2023 financial statements of a producer of identical merchandise domiciled in Norway for Norway, and the 2023 financial statements of Ferroglobe UPLC, the parent company of Ferroglobe USA, for Angola, Australia, and Laos.⁴³

⁴¹ Id.

⁴² Id.

⁴³ Id.

Fair Value Comparisons

Based on the data provided by the petitioners, there is reason to believe that imports of silicon metal from Angola, Australia, Laos, and Norway are being, or are likely to be, sold in the United States at LTFV. Based on comparisons of EP to NV in accordance with sections 772 and 773 of the Act, the estimated dumping margins for silicon metal from Australia and Norway are 328.89 and 102.08 percent, respectively.⁴⁴ Under the ME methodology, the estimated dumping margins for silicon metal from Angola and Laos are 68.45 and 94.44 percent, respectively, for purposes of initiation.⁴⁵ In light of the petitioners' allegations in the Petitions that Angola and Laos are NMEs, under the NME methodology, the estimated dumping margins for silicon metal from Angola and Laos are 207.28 and 231.63 percent, respectively, for purposes of initiation.⁴⁶

⁴⁴ Id.

⁴⁵ Id.

⁴⁶ Id.

Initiation of LTFV Investigations

Based upon the examination of the Petitions and supplemental responses, we find that they meet the requirements of section 732 of the Act. Therefore, we are initiating LTFV investigations to determine whether imports of silicon metal from Angola, Australia, Laos, and Norway are being, or are likely to be, sold in the United States at LTFV. In accordance with section 733(b)(1)(A) of the Act and 19 CFR 351.205(b)(1), unless postponed, we will make our preliminary determinations no later than 140 days after the date of these initiations.

Respondent Selection

Angola and Norway

In the Petitions, the petitioners identified three companies in Angola and three companies in Norway as producers and/or exporters of silicon metal.⁴⁷

⁴⁷ See Petitions at Volume I (pages 10-11 and Exhibit I-6); see also First General Issues Supplement at 4-5 and Attachments 1 and 2.

Following standard practice in LTFV investigations involving market economy countries, in the event Commerce determines that the number of companies is large, and it cannot individually examine each company based upon Commerce's resource, where appropriate, Commerce intends to select mandatory respondents based on U.S. Customs and Border Protection (CBP) data for imports under the appropriate Harmonized Tariff Schedule of the United States (HTSUS) subheading(s) listed in the “Scope of the Investigations,” in the appendix.

On May 12, 2025, Commerce released CBP data on imports of silicon metal from Angola and Norway under administrative protective order (APO) to all parties with access to information protected by APO and indicated that interested parties wishing to comment on CBP data and/or respondent selection must do so within three business days of the publication date of the notice of initiation of these investigations.⁴⁸ Comments must be filed electronically using ACCESS. An electronically filed document must be received successfully in its entirety via ACCESS by 5:00 p.m. ET on the specified deadline. Commerce will not accept rebuttal comments regarding the CBP data or respondent selection.

⁴⁸ See Country-Specific Memoranda, “Release of U.S. Customs and Border Protection Entry Data,” dated May 12, 2025.

Interested parties must submit applications for disclosure under APO in accordance with 19 CFR 351.305(b). Instructions for filing such applications may be found on Commerce's website at https://www.trade.gov/administrative-protective-orders.

Australia and Laos

In the Petitions, the petitioners identified one company in Australia (i.e., Simcoa Operations (Silicon Metal Company of Australia)) and one company in Laos (i.e., Lao Silicon Co., Ltd.) as producers and/or exporters of silicon metal and provided independent third-party information as support.⁴⁹ We currently know of no additional producers/exporters of silicon metal from Australia and Laos.

⁴⁹ See Petitions at Volume I (pages 10-11 and Exhibit 6); see also First General Issues Supplement at 3 and Attachment 1.

Accordingly, Commerce intends to individually examine all known producers/exporters in the investigations from Australia and Laos (i.e., the companies mentioned above). We invite interested parties to comment on this issue. Such comments may include factual information within the meaning of 19 CFR 351.102(b)(21). Parties wishing to comment must do so within three business days of the publication of this notice in the Federal Register. Comments must be filed electronically using ACCESS. An electronically filed document must be received successfully in its entirety via ACCESS by 5:00 p.m. ET on the specified deadline. Because we intend to examine all known producers/exporters in Australia and Laos, if no comments are received, or if comments received further support the existence of only these producers/exporters, we do not intend to conduct respondent selection and will proceed to issuing the initial AD questionnaires to the companies identified. However, if comments are received which create a need for a respondent selection process, we intend to finalize our decision regarding respondent selection for Australia and Laos within 20 days of publication of this notice.

Separate Rates

Upon applying an NME methodology for Angola and Laos, Commerce will consider assigning separate rates to exporters and producers. In order to obtain separate rate status in an NME investigation, exporters and producers must submit a separate rate application. The specific requirements for submitting a separate rate application in an NME investigation are outlined in detail in the application itself, which is available on Commerce's website at https://access.trade.gov/Resources/nme/nme-sep-rate.html. Note that Commerce recently promulgated new regulations pertaining to separate rates, including the separate rate application deadline and eligibility for separate rate status, in 19 CFR 351.108.⁵⁰ Pursuant to 19 CFR 351.108(d)(1), the separate rate application will be due 21 days after publication of this initiation notice.⁵¹ Exporters and producers must file a timely separate rate application if they want to be considered for individual examination. In addition, pursuant to 19 CFR 351.108(e), exporters and producers who submit a separate rate application and have been selected as mandatory respondents will be eligible for consideration for separate rate status only if they fully respond to all parts of Commerce's AD questionnaire and participate in the LTFV proceeding as mandatory respondents.⁵²

⁵⁰ See Regulations Enhancing the Administration of the Antidumping and Countervailing Duty Trade Remedy Laws, 89 FR 101694, 101759-60 (December 16, 2024).

⁵¹ See 19 CFR 351.108(d)(1).

⁵² See 19 CFR 351.108(e).

Use of Combination Rates

Upon applying an NME methodology, Commerce will calculate combination rates for certain respondents that are eligible for a separate rate in an NME investigation. The Separate Rates and Combination Rates Bulletin states:

{w}hile continuing the practice of assigning separate rates only to exporters, all separate rates that {Commerce} will now assign in its NME investigation will be specific to those producers that supplied the exporter during the period of investigation. Note, however, that one rate is calculated for the exporter and all of the producers which supplied subject merchandise to it during the period of investigation. This practice applies both to mandatory respondents receiving an individually calculated separate rate as well as the pool of non-investigated firms receiving the {weighted average} of the individually calculated rates. This practice is referred to as the application of “combination rates” because such rates apply to specific combinations of exporters and one or more producers. The cash-deposit rate assigned to an exporter will apply only to merchandise both exported by the firm in question and produced by a firm that supplied the exporter during the period of investigation.⁵³

⁵³ See Enforcement and Compliance's Policy Bulletin No. 05.1, regarding, “Separate-Rates Practice and Application of Combination Rates in Antidumping Investigation involving NME Countries,” (April 5, 2005), at 6 (emphasis added), available on Commerce's website at https://access.trade.gov/Resources/policy/bull05-1.pdf.

Distribution of Copies of the Petitions

In accordance with section 732(b)(3)(A) of the Act and 19 CFR 351.202(f), a copy of the public version of the Petitions has been provided to the governments of Angola, Australia, Laos, and Norway via ACCESS. To the extent practicable, we will attempt to provide a copy of the public version of the Petitions to each exporter named in the Petitions, as provided under 19 CFR 351.203(c)(2).

ITC Notification

Commerce will notify the ITC of our initiation, as required by section 732(d) of the Act.

Preliminary Determinations by the ITC

The ITC will preliminarily determine, within 45 days after the date on which the Petitions were filed, whether there is a reasonable indication that imports of silicon metal from Angola, Australia, Laos, and Norway are materially injuring, or threatening material injury to, a U.S. industry.⁵⁴ A negative ITC determination for any country will result in the investigation being terminated with respect to that country.⁵⁵ Otherwise, these LTFV investigations will proceed according to statutory and regulatory time limits.

⁵⁴ See section 733(a) of the Act.

⁵⁵ Id.

Submission of Factual Information

Factual information is defined in 19 CFR 351.102(b)(21) as: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁵⁶ and, if the information is submitted to rebut, clarify, or correct factual information already on the record, to provide an explanation identifying the information already on the record that the factual information seeks to rebut, clarify, or correct.⁵⁷ Time limits for the submission of factual information are addressed in 19 CFR 351.301, which provides specific time limits based on the type of factual information being submitted. Interested parties should review the regulations prior to submitting factual information in these investigations.

⁵⁶ See 19 CFR 351.301(b).

⁵⁷ See 19 CFR 351.301(b)(2).

Particular Market Situation Allegation

Section 773(e) of the Act addresses the concept of particular market situation (PMS) for purposes of CV, stating that “if a particular market situation exists such that the cost of materials and fabrication or other processing of any kind does not accurately reflect the cost of production in the ordinary course of trade, the administering authority may use another calculation methodology under this subtitle or any other calculation methodology.” When an interested party submits a PMS allegation pursuant to section 773(e) of the Act (i.e., a cost-based PMS allegation), the submission must be filed in accordance with the requirements of 19 CFR 351.416(b), and Commerce will respond to such a submission consistent with 19 CFR 351.301(c)(2)(v). If Commerce finds that a cost-based PMS exists under section 773(e) of the Act, then it will modify its dumping calculations appropriately.

Neither section 773(e) of the Act, nor 19 CFR 351.301(c)(2)(v), sets a deadline for the submission of cost-based PMS allegations and supporting factual information. However, in order to administer section 773(e) of the Act, Commerce must receive PMS allegations and supporting factual information with enough time to consider the submission. Thus, should an interested party wish to submit a cost-based PMS allegation and supporting new factual information pursuant to section 773(e) of the Act, it must do so no later than 20 days after submission of a respondent's initial section D questionnaire response.

We note that a PMS allegation filed pursuant to sections 773(a)(1)(B)(ii)(III) or 773(a)(1)(C)(iii) of the Act (i.e., a sales-based PMS allegation) must be filed within 10 days of submission of a respondent's initial section B questionnaire response, in accordance with 19 CFR 351.301(c)(2)(i) and 19 CFR 351.404(c)(2).

Extensions of Time Limits

Parties may request an extension of time limits before the expiration of a time limit established under 19 CFR 351.301, or as otherwise specified by Commerce. In general, an extension request will be considered untimely if it is filed after the expiration of the time limit established under 19 CFR 351.301, or as otherwise specified by Commerce.⁵⁸ For submissions that are due from multiple parties simultaneously, an extension request will be considered untimely if it is filed after 10:00 a.m. ET on the due date. Under certain circumstances, Commerce may elect to specify a different time limit by which extension requests will be considered untimely for submissions which are due from multiple parties simultaneously. In such a case, we will inform parties in a letter or memorandum of the deadline (including a specified time) by which extension requests must be filed to be considered timely. An extension request must be made in a separate, standalone submission; under limited circumstances we will grant untimely filed requests for the extension of time limits, where we determine, based on 19 CFR 351.302, that extraordinary circumstances exist. Parties should review Commerce's regulations concerning the extension of time limits and the Time Limits Final Rule prior to submitting factual information in these investigations.⁵⁹

⁵⁸ See 19 CFR 351.301; see also Extension of Time Limits; Final Rule, 78 FR 57790 (September 20, 2013) (Time Limits Final Rule), available at https://www.gpo.gov/fdsys/pkg/FR-2013-09-20/html/2013-22853.htm.

⁵⁹ See 19 CFR 351.302; see also, e.g., Time Limits Final Rule.

Certification Requirements

Any party submitting factual information in an AD or CVD proceeding must certify to the accuracy and completeness of that information.⁶⁰ Parties must use the certification formats provided in 19 CFR 351.303(g).⁶¹ Commerce intends to reject factual submissions if the submitting party does not comply with the applicable certification requirements.

⁶⁰ See section 782(b) of the Act.

⁶¹ See Certification of Factual Information to Import Administration During Antidumping and Countervailing Duty Proceedings, 78 FR 42678 (July 17, 2013) (Final Rule). Additional information regarding the Final Rule is available at https://access.trade.gov/Resources/filing/index.html.

Notification to Interested Parties

Interested parties must submit applications for disclosure under APO in accordance with 19 CFR 351.305. Parties wishing to participate in these investigations should ensure that they meet the requirements of 19 CFR 351.103(d) (e.g., by filing the required letter of appearance). Note that Commerce has amended certain of its requirements pertaining to the service of documents in 19 CFR 351.303(f).⁶²

⁶² See Administrative Protective Order, Service, and Other Procedures in Antidumping and Countervailing Duty Proceedings, 88 FR 67069 (September 29, 2023).

This notice is issued and published pursuant to sections 732(c)(2) and 777(i) of the Act, and 19 CFR 351.203(c).

Dated: May 14, 2025.
Christopher Abbott,
Deputy Assistant Secretary for Policy and Negotiations, performing the non-exclusive functions and duties of the Assistant Secretary for Enforcement and Compliance.

Appendix

Scope of the Investigations

The scope of these investigations covers all forms and sizes of silicon metal, including silicon metal powder. Silicon metal contains at least 85.00 percent but less than 99.99 percent silicon, and less than 4.00 percent iron, by actual weight. Semiconductor grade silicon (merchandise containing at least 99.99 percent silicon by actual weight and classifiable under Harmonized Tariff Schedule of the United States (HTSUS) subheading 2804.61.0000) is excluded from the scope of these investigations.

Silicon metal is currently classifiable under subheadings 2804.69.1000 and 2804.69.5000 of the HTSUS. While the HTSUS numbers are provided for convenience and customs purposes, the written description of the scope remains dispositive.

[FR Doc. 2025-09027 Filed 5-20-25; 8:45 am]

BILLING CODE 3510-DS-P